DEPARTMENT OF JUSTICE

Parole Commission

Sunshine Act Meeting

TIME AND DATE: 10:00 a.m., Wednesday, July 23, 2014.

PLACE: U.S. Parole Commission, 90 K Street NE., 3rd Floor, Washington, DC

STATUS: Open.

MATTERS TO BE CONSIDERED: Approval of April 17, 2014 minutes; reports from the Vice Chairman, the Commissioners, and senior staff; Final Rule voting on 28 CFR Part 2; Proposed Amendment to 28 CFR 2.66.

CONTACT PERSON FOR MORE INFORMATION: Jacqueline Graham, Staff Assistant to the Chairman, U.S. Parole Commission, 90 K Street NE., 3rd Floor, Washington, DC 20530, (202) 346-7001.

Dated: July 16, 2014.
Cranston Mitchell,
Vice Chairman, U.S. Parole Commission.

[FR Doc. 2014-17119 Filed 7-17-14; 11:15 am]

BILLING CODE 4410-31-P